DEPARTMENT OF COMMERCE

National Oceanic and Atmospheric Administration

[RTID 0648-XC0075]

Management Track Assessment for Atlantic Herring and Southern New England/Mid-Atlantic Winter Flounder

AGENCY: National Marine Fisheries Service (NMFS), National Oceanic and Atmospheric Administration (NOAA), Commerce.

ACTION: Notice of public meeting.

SUMMARY: NMFS and the Assessment Oversight Panel (AOP) will convene the Management Track Assessment Peer Review Meeting for the purpose of reviewing both Atlantic herring and southern New England/mid-Atlantic winter flounder stocks. The Management Track Assessment Peer Review is a formal scientific peer-review process for evaluating and presenting stock assessment results to managers for fish stocks in the offshore U.S. waters of the northwest Atlantic. Assessments are prepared by the lead stock assessment analyst and reviewed by an independent panel of stock assessment experts called the AOP. The public is invited to attend the presentations and discussions between the review panel and the scientists who have participated in the stock assessment process.

DATES: The public portion of the Management Track Assessment Peer Review Meeting will be held from June 27, 2022-June 29, 2022. The meeting will conclude on June 29, 2022 at 5 p.m. Eastern Standard Time. Please see SUPPLEMENTARY INFORMATION for the daily meeting agenda.

ADDRESSES: The meeting will be held via Google Meet (https://meet.google.com/gwr-scrv-roh).

FOR FURTHER INFORMATION CONTACT: Michele Traver, phone: 508-257-1642; email: michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about the AOP meeting and the stock assessment peer review, please visit the NMFS/NEFSC web page at https://www.fisheries.noaa.gov/new-england-mid-atlantic/population-assessments/management-track-stock-assessments.

Daily Meeting Agenda—Management Track Peer Review Meeting

The agenda is subject to change; all times are approximate and may be changed at the discretion of the Peer Review Chair.

Monday, June 27, 2022
Time | Activity | Lead
10 a.m.-10:15 a.m | Welcome/Logistics Introductions/Process | Michele Traver, Russ Brown, and Tom Miller (Chair).
10:15 a.m.-11:45 a.m | Atlantic herring | Jon Deroba.
11:45 a.m. -12:15 p.m | Discussion/Review/Summary | Review Panel.
12:15 p.m.-12:30 p.m | Public Comment | Public.
12:30 p.m.-1:30 p.m | Lunch
1:30 p.m.-3 p.m | Atlantic herring cont | Jon Deroba.
3 p.m.-3:15 p.m | Break
3:15 p.m.-4:30 p.m | Atlantic herring cont | Jon Deroba.
4:30 p.m.-5 p.m | Discussion/Review/Summary | Review Panel.
5 p.m.-5:15 p.m | Public Comment | Public.
5:15 p.m | Adjourn

Tuesday, June 28, 2022
Time | Activity | Lead
9 a.m.-9:05 a.m | Brief Overview and Logistics | Michele Traver/ Tom Miller (Chair).
9:05 a.m.-10:35 a.m | Southern New England/mid-Atlantic winter flounder | Tony Wood.
10:35 a.m.-10:50 a.m | Break
10:50 a.m.-11:45 a.m | Southern New England/mid-Atlantic winter flounder cont | Tony Wood.
11:45 a.m.-12:15 p.m | Discussion/Review/Summary | Review Panel.
12:15 p.m.-12:30 p.m | Public Comment | Public.
12:30 p.m.-1:30 p.m | Lunch
1:30 p.m.-3 p.m | Follow-ups | Review Panel.
3 p.m.-5 p.m | Report Writing | Review Panel.
5 p.m | Adjourn

Wednesday, June 29, 2022
Time | Activity | Lead
9 a.m.-5 p.m | Report Writing | Review Panel.
5 p.m | Adjourn

The meeting is open to the public; however, during the `Report Writing' session on Tuesday, June 28th, and Wednesday, June 29th, the public should not engage in discussion with the Peer Review Panel.

Special Accommodations

This meeting is physically accessible to people with disabilities. Special requests should be directed to Michele Traver, via email.

Dated: May 25, 2022.
Jennifer M. Wallace,
Acting Director, Office of Sustainable Fisheries, National Marine Fisheries Service.

[FR Doc. 2022-11661 Filed 5-31-22; 8:45 am]

BILLING CODE P